DEPARTMENT OF COMMERCE

National Oceanic and Atmospheric Administration

[RTID 0648-XC771]

Endangered and Threatened Species; Take of Anadromous Fish

AGENCY: National Marine Fisheries Service (NMFS), National Oceanic and Atmospheric Administration (NOAA), Commerce.

ACTION: Notice of receipt of application; 7 permit renewals, 1 permit modification, and 9 new permits.

SUMMARY: Notice is hereby given that NMFS has received 17 scientific research permit application requests relating to Pacific salmon, steelhead, green sturgeon, rockfish, and eulachon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on March 20, 2023.

ADDRESSES: Written comments on the applications should be sent to the Protected Resources Division, NMFS, 1201 NE Lloyd Blvd., Suite 1100, Portland, OR 97232-1274. Comments may also be sent via fax to 503-230-5441 or by email to nmfs.wcr-apps@noaa.gov (include the permit number in the subject line of the fax or email).

FOR FURTHER INFORMATION CONTACT: Shivonne Nesbit, Portland, OR (ph.: 541-805-5320), email: Shivonne.Nesbit@noaa.gov). Permit application instructions are available from the address above, or online at https://apps.nmfs.noaa.gov.

SUPPLEMENTARY INFORMATION:

Species Covered in This Notice

The following listed species are covered in this notice:

Chinook salmon (Oncorhynchus tshawytscha): Threatened Lower Columbia River (LCR); threatened Puget Sound (PS); threatened Snake River (SnkR) spring/summer-run; threatened SnkR fall-run; endangered Upper Columbia River (UCR) spring-run; threatened Upper Willamette River (UWR), threatened Central Valley spring-run (CVS); endangered Sacramento River (SacR) winter-run; threatened California Coastal (CC).

Steelhead (O. mykiss): Threatened LCR; threatened Middle Columbia River (MCR); threatened PS; threatened SnkR; threatened UCR; threatened UWR; threatened Northern California (NC); threatened Central California Coast (CCC); threatened California Central Valley (CCV); threatened South-Central California Coast (S-CCC); endangered Southern California (SC).

Chum salmon (O. keta): Threatened Hood Canal Summer-run (HCS), threatened Columbia River (CR).

Coho salmon (O. kisutch): Threatened LCR; threatened Oregon Coast (OC) coho; threatened Southern Oregon/Northern California Coast (SONCC), endangered Central California Coast (CCC).

Sockeye salmon (O. nerka): Endangered SnkR; Threatened Ozette Lake (OL).

Eulachon (Thaleichthys pacificus): Threatened southern Distinct Population Segment (SDPS).

Green sturgeon (Acipenser medirostris): Threatened southern Distinct Population Segment (SDPS).

Rockfish (Sebastes spp.): Endangered Puget Sound/Georgia Basin (PS/GB) DPS bocaccio (Sebastes paucispinis); threatened PS/GB DPS yelloweye rockfish (S. ruberrimus).

Authority

Scientific research permits are issued in accordance with section 10(a)(1)(A) of the ESA (16 U.S.C. 1531 et. seq) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1134-8R

The Columbia River Inter-Tribal Fish Commission (CRITFC) is seeking to renew for 5 years a permit under which they have been conducting research for more than 20 years. The permit would continue covering three study projects that, among them, would annually take adult and juvenile SnkR steelhead and spring/summer-run Chinook salmon in the Snake River basin. There have been some significant changes in the research over the last ten years, nonetheless, the projects proposed are essentially continuations of ongoing research. They are: Project 1—Cryopreservation of Spring/summer Chinook Salmon and Summer Steelhead Gametes; Project 2—Snorkel, Seine, fyke net, Minnow Trap, and Electrofishing Surveys and Collection of Juvenile Chinook Salmon and Steelhead; and Project 3—Juvenile Anadromous Salmonid Emigration Studies Using Rotary Screw Traps. Under these tasks, listed adult and juvenile salmon would be variously (1) observed/harassed during fish population and production monitoring surveys; (2) captured (using dip nets, seines, trawls, traps, hook-and-line angling equipment, and electrofishing equipment) and anesthetized; (3) sampled for biological information and tissue samples; (4) tagged with passive integrated transponders (PIT-tags) or tagged with other identifiers, and (5) released. It should be noted that in the past, this permit covered five projects instead of three and authorized a great deal more adult and juvenile take of both species than it would under this proposed action.

The research has many purposes and would benefit listed salmon and steelhead in different ways. In general, the studies are part of ongoing efforts to monitor the status of listed species in the Snake River basin and to use those data to inform decisions about land- and fisheries management actions and to help prioritize and plan listed species recovery measures. Under the proposal, the studies would continue to benefit listed species by generating population abundance estimates; providing information on adult and juvenile salmon and steelhead life histories in the in the Snake, Salmon, Clearwater, Grande Ronde, and Imnaha River subbasins; and helping preserve listed salmon and steelhead genetic diversity. The CRITFC researchers do not intend to kill any of the fish being captured, but a small percentage may die as a result of the research activities.

Permit 15573-4R

The Glenn-Colusa Irrigation District (GCID) is seeking to renew for 5 years a research permit that would authorize them to take juvenile SacR winter-run Chinook salmon, CVS Chinook salmon, CCV steelhead, SDPS green sturgeon in the Sacramento River, CA. The study's purpose is to monitor restoration actions and to detect annular and cyclic population changes. The GCID project provides the longest and most complete anadromous fish data set on the Sacramento River. As a result, the research would benefit the affected species by informing operational decisions for state and Federal water facilities and supplementing other out-migrant monitoring projects conducted in the Sacramento River Basin.

The researchers propose to use a rotary screw trap to capture the targeted fish. A subsample of captured juveniles would be anesthetized, tissue-sampled, PIT-tagged and released. All juvenile fish would be captured, handled (anesthetized, weighed, measured, and checked for marks or tags), and released. The researchers are not proposing to kill any of the listed fish being captured, but a small number of fish may be killed as an inadvertent result of these activities.

Permit 15824-3R

The County of Santa Cruz is seeking to renew for 5 years a research permit that currently allows them to take juvenile CCC coho, CCC steelhead, and S-CCC steelhead in the San Lorenzo River and its tributaries, Aptos Creek and its tributaries, Corralitos Creek and its tributaries, and Soquel Creek and its tributaries. The study's purpose is to document habitat conditions and collect data on juvenile salmonid abundance in Santa Cruz County watersheds. The research would benefit the affected species by providing data on salmonid spawning and rearing habitat conditions and thereby help inform habitat restoration and conservation efforts and land and water use decisions.

The researchers at Santa Cruz County propose to use backpack electrofishing and beach seines to capture fish and to observe fish during snorkel surveys. Captured fish would be anesthetized, identified to species, measured, PIT tagged, have a tissue sample taken for genetic analysis (fin clip and scales), and allowed to recover before being released back to the stream. The researchers do not intend to kill any listed fish, but some may die as an inadvertent result of the research.

Permit 16303-3R

The United States Geological Survey (USGS) is seeking to renew a research permit that allows them to take juvenile PS/GB DPS bocaccio, juvenile HCS chum salmon, juvenile PS steelhead, and juvenile, subadult, and adult PS Chinook salmon throughout the marine waters of Puget Sound, Hood Canal, and the Strait of Juan de Fuca (Washington State). The USGS research may also cause them to take adult SDPS eulachon and juvenile PS/GB DPS yelloweye rockfish—species for which there are currently no ESA take prohibitions. The purpose of the USGS study is to examine salmonid stage-specific growth, as well as bioenergetics, competition, and predation during the early marine growth period. Additionally, unlisted salmonid species, herring, and other forage fish species would be studied for the potential effects arising from fluctuations in temporal-spatial food supplies, temperature, competition, and predation. This research would benefit the affected species by quantifying key factors limiting survival and production of Chinook salmon (particularly during juvenile outmigration and the first marine growing season) and advancing knowledge of the ecological role and contribution that the little-studied resident Chinook salmon make to Puget Sound Chinook salmon populations as a whole.

The USGS proposes capturing fish by beach seine, purse seine, Lampara seine, and micro-trolling (i.e., hook-and-line angling). All captured, viable subadult or adult salmon and any rockfish would be released as swiftly as possible. Listed rockfish would be released via rapid submergence to their capture depth to reduce the effects from barotrauma, and sub-adult/adult salmonids would be released at the surface. Under all capture methods, the juvenile salmonids would be anesthetized, identified to species, checked for coded wire tags (CWTs), measured to length, gastric-lavaged, tissue-sampled (fin clip and scales), and released. All juvenile, hatchery-origin, CWT fish (marked and unmarked) captured during the seining would be intentionally sacrificed to determine their origins. The researchers also propose to intentionally kill small numbers of hatchery- and natural-origin juvenile Chinook salmon for otolith collection and whole-body chemical analyses. Additionally, a small number of listed fish may die as an unintended result of the activities.

Permit 21061-2R

Windward Environmental is seeking to renew a permit that would authorize them to take juvenile and adult PS steelhead and Chinook salmon and juvenile PS/GB DPS bocaccio in order to establish baseline Lower Duwamish Waterway-wide concentrations of contaminants in non-listed resident fish species and evaluate how well this superfund site is progressing toward meeting the cleanup target tissue concentrations set by the Environmental Protection Agency (EPA). The research may also cause unintentional take of juvenile PS/GB DPS yelloweye rockfish—a species for which there are currently no ESA take prohibitions. The information would be used to determine progress towards cleanup goals for the Lower Duwamish Waterway and inform future sediment remediation efforts. This information would benefit listed species ESA-listed species by confirming where contaminated areas are and how concentrated contaminants continue to be within the Lower Duwamish River, and whether cleanup activities to date have been successful in reducing contaminant concentrations in resident fish species and their invertebrate prey. This information will also inform future sediment remediation efforts in the Puget Sound and elsewhere.

The researchers may unintentionally capture juvenile and adult ESA-listed fish while conducting otter trawls that target sole and surfperch. All captured juvenile or adult ESA-listed fish captured would be identified, enumerated, and immediately released at the location of capture. The researchers would also deploy crab traps targeting Dungeness crab, although neither juvenile nor adult ESA-listed fish are expected to be unintentionally captured by this gear. The researchers do not intend to kill any listed fish, but some may die as an inadvertent result of the proposed activities.

Permit 22093-2R

Under permit 22093-2R the Snoqualmie Valley Watershed Improvement District (SVWID) is seeking to renew a permit that would authorize them to take adult and juvenile PS Chinook salmon and PS steelhead in order to assess the presence or absence of fish in various streams and agricultural drainage ditches within the boundary of the SVWID. This information will better inform plans to improve drainage, minimize flooding, and restore salmon habitat. Data and observations gathered through this research will also benefit ESA-listed species by providing data that will inform researchers about the status of these species in agricultural drainage ditches and small streams that may not otherwise be studied.

Juveniles would be collected via backpack electrofishing, beach seining, and minnow traps. Adults would be collected via beach seine. Fish would be captured, handled (weighed, measured, and checked for marks or tags), and released. The researchers are not proposing to kill any of the listed fish being captured, but a small number of fish may be killed as an inadvertent result of these activities.

Permit 22998-2R

The United States Fish and Wildlife Service (FWS) is seeking to renew a permit that would once again authorize them to annually take juvenile PS Chinook salmon and steelhead and adult HCS chum salmon in streams and waterbodies on the Kitsap Peninsula (Kitsap County, WA). The purpose of the study is to determine where in those waterbodies ESA-listed salmonids are present. That information would be used help guide future land use management and fulfill requirements in the Navy Base Kitsap's Natural Resource Management Plan. This research would benefit the affected species by helping guide habitat restoration and providing baseline information on species distribution. Currently, there is little information about the distribution of ESA-listed salmonids on Navy Base Kitsap lands.

The FWS would use backpack electrofishing equipment, beach seines, and dip nets to capture the juvenile fish. For electrofishing, the captured fish would be anesthetized with tricaine methanesulfonate (MS-222), identified by species, measured for length, weighed, allowed to recover, and released. For beach seines and dip netting, the captured fish would only be identified by species and swiftly released. The researchers would also conduct snorkel surveys for juvenile PS Chinook salmon and steelhead, and spawner surveys in which adult chum salmon may be observed. The FWS does not intend to kill any of the fish being captured, but a small number of juveniles may die as an unintended consequence of the proposed activities.

Permit 26368-2M

Idaho State University is seeking to modify a permit that currently authorizes them to annually take juvenile MCR steelhead, SnkR spring/summer-run Chinook salmon, SnkR steelhead, UWR Chinook salmon, UWR steelhead, and OC coho salmon at more than a dozen locations from Idaho to western Oregon. The modification would entail adding some sampling locations—particularly in Washington—and therefore would also require adding small amounts of take for SDPS eulachon and sturgeon and UCR and PS Chinook and steelhead. The purpose of the research is to conduct a range-wide comparison of native Rainbow Trout population genetics and structure across much of western North America. The work would benefit listed fish by providing of information about population and subspecies structure, local biodiversity in a variety of settings, and some measure of how intra- and inter-species variability contribute to ecosystem maintenance. That information, in turn, would be used to adjust planning efforts in a manner that would account for variances in species diversity and population structure and health across a broad section of the listed species' habitat.

The juvenile fish would be collected via backpack electrofishing and hook-and-line angling. Only juvenile steelhead would be captured, handled (anesthetized, weighed, measured, and checked for marks or tags), sampled, and released. All other listed fish that may be captured would be allowed to recover in aerated water and then released immediately. The researchers are not proposing to kill any listed fish, but a small number may be killed as an inadvertent result of the proposed activities.

Permit 26714

The Oregon Department of Fish and Wildlife (ODFW) is seeking a permit to capture SnkR steelhead and spring/summer-run Chinook salmon while surveying the Wallowa River, Oregon, to better understand the distribution, relative abundance, movement ecology, and angler exploitation rates of rainbow trout and mountain whitefish in the river. This work is intended to generate important baseline information on the status and trends of native fishes in the Wallowa River and thereby improve managers' ability to conserve and manage them. The study would benefit listed salmonids by giving mangers information on (1) salmonid distribution and general habitat use in the Wallowa River, (2) the distribution and abundance of residualized hatchery steelhead, and (3) the rates at which anglers capture and handle listed juvenile steelhead/rainbow trout. This information, in turn, would be used to limit harvest rates and design recovery actions.

The researchers would use raft-mounted electrofishing equipment to capture the fish. Most of the listed Chinook and steelhead would be measured, scanned for tags and marks and immediately released. However, because they are very difficult to distinguish from non-listed rainbow trout, a small portion of the captured juvenile SnkR steelhead would also be tagged and tissue sampled before being released. In all cases, listed fish would be processed and released before any work is done on non-listed fish. Also, if an adult Chinook or steelhead fish were to be encountered, the electrofishing equipment would be turned off and the electrofishing raft would be moved before the survey is started again. The researchers do not plan to kill any fish they capture, but some may die as an unintended result of the activities.

Permit 26766

The Washington Department of Natural Resources (WDNR) is seeking a new permit to conduct fish presence/absence surveys in small streams across the state of Washington. The permit would authorize them to take juvenile PS Chinook salmon and steelhead; HC summer-run chum salmon; OL sockeye salmon; UCR steelhead and spring-run Chinook salmon; MCR steelhead; SnkR steelhead, sockeye, and spring/summer-run and fall-run Chinook salmon; LCR Chinook salmon, coho salmon and steelhead; and CR chum salmon. The purpose of the study is to survey small streams on privately held land across the state of Washington and determine what fish are present at each site. The information would be used to (a) inform landowners of the appropriate riparian management zone to follow under the state Forest Regulations and (b) identify potential fish passage barriers. Helping landowners follow the appropriate forest practice regulations would help protect crucial habitats along riparian zones. Identifying fish passage barriers would help mangers determine what barriers could be altered to increase the amount of habitat accessible to listed fish.

The juvenile fish would be collected via backpack electrofishing and the captured fish would be handled (anesthetized, weighed, measured, and checked for marks or tags), and swiftly released near the point of their capture. The researchers are not proposing to kill any listed fish, but a small number from each species may be killed as an inadvertent result of the proposed activities.

Permit 26968

The California Department of Fish and Wildlife (CDFW) is seeking a new permit that would authorize them to take juvenile SONCC coho salmon, NC steelhead, CC Chinook salmon, SacR winter-run Chinook salmon, CVS Chinook salmon, CCV steelhead, CCC coho salmon, CCC steelhead, S-CCC steelhead, SC steelhead, and adult SDPS green sturgeon in streams and rivers throughout California at pre-selected locations. The study's purpose is to assess the condition of the rivers and streams in California and provide a baseline for future comparisons. CDFW is participating in the USEPA National Rivers and Streams Assessment (NRSA), a probability-based survey designed to assess the condition of the Nation's rivers and streams. NRSA is a keystone program in California that provides data for the National Water Quality Inventory Report to Congress (305(b) report) and fulfills the water quality monitoring requirements of the Clean Water Act.

The researchers at CDFW propose to use kick nets, backpack and boat electrofishing to capture fish. Captured fish would be handled (anesthetized, weighed, measured, and checked for marks or tags), and released. The researchers are not proposing to kill any of the listed fish being captured, but a small number of fish may be killed as an inadvertent result of these activities.

Permit 27069

Thomas Gast & Associates Environmental Consultants is seeking a new permit that would authorize them to take juvenile SacR winter-run Chinook salmon, CVS Chinook salmon, CCV Valley steelhead, and SDPS green sturgeon in a backwater area of the Sacramento River directly downstream of its confluence with Battle Creek. The study's purpose is to characterize seasonal changes and variability within the fish community in the backwater area. Data on the fish community composition will be used to inform the planning and design of an upcoming side-channel restoration project.

Juveniles would be collected via fyke net, beach seine, and minnow trap and observed during snorkel surveys. Juvenile fish would be captured, handled (anesthetized, weighed, measured, and checked for marks or tags), and released. The researchers are not proposing to kill any of the listed fish being captured, but a small number of fish may be killed as an inadvertent result of these activities.

Permit 27091

The Port of Seattle is seeking a permit that would allow them to take juvenile PS steelhead and Chinook salmon while conducting survey work designed to examine ecological response to restoration actions that have been undertaken in the lower Duwamish River waterway in Washington state. The purpose of the work is to fulfill the conditions found in the habitat-restoration component of a Natural Resources Damage Assessment claim made against the Port of Seattle. It would benefit the listed salmon and steelhead by ensuring the habitat they use in the lower Duwamish functions to promote their survival; it would also help the listed species by helping guide similar habitat restoration actions elsewhere in the Puget Sound and beyond.

All captured salmonids would be sedated with MS-222 and identified by species, weighed and measured to the nearest millimeter (fork length). Once measured and weighed, the fish would be placed into a recovery bucket and be transported to the bank of the Duwamish River and released downstream of the capture site. The process would be halted if the fish appear to be overly stressed, or recovery times are unusually long. Any fish with coded wire tags or that have had their adipose fins clipped would be noted in order to calculate the ratio of natural-origin to hatchery fish in the lower Duwamish River. The researchers do not intend to kill any of the fish being captured, but a small number may die as an unintended consequence of the proposed activities.

Permit 27098

The WDNR is seeking a new permit that would authorize them to annually take juvenile UCR steelhead and spring-run Chinook salmon; MCR steelhead; SnkR steelhead, sockeye, and spr/sum and fall-run Chinook salmon; LCR Chinook salmon, coho salmon and steelhead; UWR Chinook salmon and steelhead; and CR chum salmon. The permit would also allow them to take adult and juvenile SDPS eulachon—a species for which there are currently no take prohibitions. Under the permit, the WDNR researchers would monitor, track, trap, and remove invasive European green crabs on WDNR aquatic lands in the Puget Sound and lower Columbia River. The purpose of the research is to explore the best means of locating and eliminating European green crab incursions, and it will benefit listed salmonid (and other) species by guiding long-term management actions designed protect their critical habitat.

The researchers would use modified shrimp and minnow traps placed in the estuarine and marine intertidal and subtidal waters in the Puget Sound and lower Columbia River. The researchers do not actually expect to catch any listed salmonids or eulachon; nonetheless, all traps will be checked very regularly and any listed animals that are captured will be swiftly released without further handling. The researchers do not intend to kill any of the fish being captured, but a small number may die as an unintended consequence of the proposed activities.

Permit 27129

The USGS is seeking a new permit to monitor toxic chemical contamination levels in resident fish sampled in the Bonneville pool (reservoir) on the Columbia River. The permit would authorize them to take juvenile and adult UCR steelhead and spring-run Chinook salmon; MCR steelhead; SnkR steelhead, sockeye, and spring/summer-run and fall-run Chinook salmon; LCR Chinook salmon, coho salmon, and steelhead; and CR chum salmon. The purpose of the research is to conduct long-term monitoring to assess the spatial and temporal status and trends of toxics in fish, water, sediment, and other potential media in the Columbia River mainstem—eventually from Bonneville Dam to the Canadian Border. While the work does not target listed fish, it would benefit them by providing information to help state, tribal and federal mangers plan restoration and remediation actions designed to improve ecosystem function and reduce contaminants in all levels of the food chain.

The researchers would use a variety of means to capture the fish. The main methods would be fyke and hoop nets, minnow traps and nets, longlines, and angling. If these methods prove insufficient to gathering the needed resident fish samples, boat electrofishing may possibly be employed. All adult listed fish would be avoided, and any that are captured would immediately be released. Captured juvenile fish Juvenile fish would also be minimally handled and released without any data being collected on them. The researchers are not proposing to kill any listed fish, but a small number from each species may be killed as an inadvertent result of the proposed activities.

Permit 27162

Under permit 27162 the WDNR (Olympic Region) is seeking a new permit that would authorize them to take juvenile PS Chinook salmon, PS steelhead, HCS chum salmon, and OL sockeye salmon in streams on WDNR land on the Olympic Peninsula (Clallam, Jefferson, and Grays Harbor counties in Washington) in order to determine listed fish presence or absence in small streams. The information gathered would be used to determine salmonid presence and distribution and thereby inform land management decisions on WDNR holdings. This information would benefit listed species by helping WDNR identify existing man-made fish barriers that should be removed or replaced with structures that fish can pass over or through, and support a region-wide program of road maintenance and other forest management activities in the vicinity of streams. Confirming which streams currently support ESA-listed fish species would help prioritize those locations for restoration actions.

Juvenile salmonids would be collected via backpack electrofishing, handled (anesthetized, weighed, measured, identified, and checked for marks or tags), and released back to the waters from which they came. In some cases, the researchers may not actually capture any fish but would merely note their presence, however electrofishing where listed species are observed would still be reported as take. The researchers are not proposing to kill any of the listed fish being taken, but a small number may be killed as an inadvertent result of these activities.

Permit 27212

Oregon State University is seeking a new permit to survey waters across the pacific Northwest with the intent of mapping sculpin diversity and distribution across that range. The permit would authorize them to take juvenile PS Chinook salmon and steelhead; HCS chum salmon; UCR steelhead and spring-run Chinook salmon; MCR steelhead; SnkR steelhead, sockeye, and spring/summer-run and fall-run Chinook salmon; LCR Chinook salmon, coho salmon and steelhead; UWR Chinook salmon; CR chum salmon; and SDPS eulachon. The purpose of the study is to map sculpin diversity and distribution, but it would also benefit listed salmonids. Improved data on the listed species' distribution, movement, and life histories would help direct the efforts recommended in each of the species' recovery plans. Moreover, the project would generate presence/absence data to help fill the need to monitor ecosystem health and the distribution, population status, and migratory movements of all the of listed species that may be encountered.

The fish would be collected via backpack electrofishing and beach seine; with the exception of SDPS eulachon, no adults would be taken. All captured listed fish would be handled briefly (identified and recorded) and immediately released back to the stream of their origin. The researchers would reduce possible harm to listed salmonids by: (1) avoiding sampling in the heat of the day or during spawning times, (2) surveying sample plots in advance for any listed fish, (3) using the lowest feasible settings on the electroshocker, (4) using the gentler seine net when possible, and (5) consulting with district biologists to get their advice on how to minimize harm to endangered and threatened species at each site. The researchers are not proposing to kill any listed fish, but a small number of each species may be killed as an inadvertent result of the proposed activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: February 13, 2023.
Angela Somma,
Chief, Endangered Species Division, Office of Protected Resources, National Marine Fisheries Service.

[FR Doc. 2023-03336 Filed 2-16-23; 8:45 am]

BILLING CODE 3510-22-P